EQUAL EMPLOYMENT OPPORTUNITY COMMISSION

Agency Information Collection Activities

AGENCY: Equal Employment Opportunity Commission

ACTION: Notice of Information Collection—Extension Without Change: Elementary-Secondary Staff Information Report (EEO-5).

SUMMARY: In accordance with the Paperwork Reduction Act (PRA), the Equal Employment Opportunity Commission (EEOC or Commission) announces that it intends to submit to the Office of Management and Budget (OMB) a request for a three-year extension without change of the Elementary-Secondary Staff Information Report (EEO-5).

DATES: Written comments on this notice must be submitted on or before June 19, 2017.

ADDRESSES: Comments should be sent to Bernadette Wilson, Acting Executive Officer, Executive Secretariat, Equal Employment Opportunity Commission, 131 M Street NE., Washington, DC 20507. As a convenience to commenters, the Executive Secretariat will accept comments totaling six or fewer pages by facsimile (“FAX”) machine. This limitation is necessary to assure access to the equipment. The telephone number of the fax receiver is (202) 663-4114. (This is not a toll-free number.) Receipt of FAX transmittals will not be acknowledged, except that the sender may request confirmation of receipt by calling the Executive Secretariat staff at (202) 663-4070 (voice) or (202) 663-4074 (TTY). (These are not toll-free telephone numbers.) Instead of sending written comments to EEOC, you may submit comments and attachments electronically at http://www.regulations.gov, which is the Federal eRulemaking Portal. Follow the instructions online for submitting comments. All comments received through this portal will be posted without change, including any personal information you provide, except as noted below. The EEOC reserves the right to refrain from posting comments, including those that contain obscene, indecent, or profane language; that contain threats or defamatory statements; that contain hate speech directed at race, color, sex, national origin, age, religion, disability, or genetic information; or that promote or endorse services or products. All comments received, including any personal information provided, also will be available for public inspection during normal business hours by appointment only at the EEOC Headquarters Library, 131 M Street NE., Washington, DC 20507. Upon request, individuals who require assistance viewing comments will be provided appropriate aids such as readers or print magnifiers. To schedule an appointment, contact EEOC Library staff at (202) 663-4630 (voice). (This is not a toll-free number.) Appointments may also be scheduled by emailing eeoclibrary@eeoc.gov.

FOR FURTHER INFORMATION CONTACT: Ronald Edwards, Director, Program Research and Surveys Division, Equal Employment Opportunity Commission, 131 M Street NE., Room 4SW30F, Washington, DC 20507; (202) 663-4949 (voice) or ronald.edwards@eeoc.gov. Requests for this notice in an alternative format should be made to the Office of Communications and Legislative Affairs at (202) 663-4191 (voice), (202) 663-4494 (TTY), or email at: newsroom@eeoc.gov.

SUPPLEMENTARY INFORMATION: Pursuant to the Paperwork Reduction Act of 1995 and OMB regulation 5 CFR 1320.8(d)(1), the Commission solicits public comment to enable it to:

(1) Evaluate whether the proposed collection of information is necessary for the proper performance of the Commission's functions, including whether the information will have practical utility;

(2) Evaluate the accuracy of the Commission's estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of Information Collection

Collection Title: Elementary-Secondary Staff Information Report (EEO-5).

OMB-Number: 3046-0003.

Frequency of Report: Biennial.

Type of Respondent: Certain public elementary and secondary school districts.

Description of Affected Public: Certain public elementary and secondary school districts.

Number of Responses: 6,024.¹

¹ This number represents the number of filers from the most recently completed EEO-5 survey in 2014.

Reporting Hours (biennial): 102,839.32.

Respondent Cost Burden (biennial): $0.

Federal Cost: $190,000.

Number of Forms: 1.

Form Number: EEOC Form 168A.

Abstract: Section 709(c) of Title VII of the Civil Rights Act of 1964, as amended, 42 U.S.C. 2000e-8(c), requires employers to make and keep records relevant to a determination of whether unlawful employment practices have been or are being committed, to preserve such records, and to produce reports as the Commission prescribes by regulation or order. Accordingly, the EEOC issued regulations prescribing the reporting requirements for elementary and secondary public school districts. The EEOC uses EEO-5 data to investigate charges of employment discrimination against elementary and secondary public school districts. The data also are used for research. The data are shared with the Department of Education (Office for Civil Rights) and the Department of Justice. Pursuant to Section 709(d) of Title VII of the Civil Rights Act of 1964, as amended, EEO-5 data also are shared with state and local Fair Employment Practices Agencies (FEPAs).

Burden Statement: The EEOC has updated its methodology for calculating annual burden to reflect the different staff responsible for preparing and filing the EEO-5. The EEOC's revised burden estimate reflects that the bulk of the work in biennially preparing an EEO-5 report is performed by computer support specialists, executive administrative staff, and payroll and human resource professionals; the revised estimate also includes time spent by school district finance professionals and superintendents who, in a few cases, may consult briefly during the reporting process. The revised estimates reflect input obtained by the EEOC during a limited survey of school districts with varying resource levels and student populations. The school districts provided information on the types of employees that participate in preparation of the EEO-5 report and the amount of time spent by each type of employee. After accounting for the time spent by the various employees who have a role in preparing an EEO-5, the EEOC estimates that a school district will spend 17.07 hours to prepare the report, and estimates that the aggregate biennial hour burden for all respondents is 102,839.32. The cost associated with the burden hours was calculated using median hourly wage rates obtained from the Department of Labor ² for each job identified above as participating in the submission of the survey; the burden hour cost per school district will be approximately $539.57, while the estimated total biennial burden cost for all 6,024 school districts will be $3,250,361.25 (See Table 1 ³).

² Median hourly wage rates were obtained from the Bureau of Labor Statistics (see U.S. Dept. of Labor, Bureau of Labor Statistics, Occupational Outlook Handbook, http://www/bls.gov/ooh/).

³ Figures shown in table have been rounded.

Table 1—Estimate of Burden for EEO-5 Report
| Hourly wage rate | Burden hours per district | Burden hour cost per district ⁴ | Total burden hours ⁵ | Total burden hour cost ⁶
| N = 6,024
Computer Support Specialist (IT Professional/Data Processing Specialist) | 25.21 | 3.4286 | 86.4343 | 20,653.7143 | 520,680.1371
Director of School Finance (Financial Managers) | 56.73 | 0.1429 | 8.1043 | 860.5714 | 48,820.2171
Executive Clerical Staff | 26.66 | 2.9286 | 78.0757 | 17,641.7143 | 470,328.1029
Human Resource Specialist | 28.06 | 5.4286 | 152.3257 | 32,701.7143 | 917,610.1029
Payroll Specialist | 20.26 | 1.4286 | 28.9429 | 8,605.7143 | 174,351.7714
Senior Human Resource Managers | 50.21 | 3.4286 | 172.1486 | 20,653.7143 | 1,037,022.9943
Superintendent (School Management Occupations | 47.38 | 0.2857 | 13.5371 | 1,721.1429 | 81,547.7486
Sub Total |  | 17.0716 | 539.5686 | 102,839.3184 | 3,250,361.2464

The EEOC has made electronic filing much easier for respondents required to file the EEO-5 Report. As a result, more respondents are using this filing method. This development, along with the greater availability of human resource information software, is expected to significantly reduce the actual burden of reporting. The Commission continues to develop more reliable estimates of reporting burdens given the significant increase in electronic filing and explore new approaches to make such reporting even less burdensome. In order to help reduce survey burden, respondents are encouraged to report data electronically, whenever possible.

⁴ The figures in this column were calculated by multiplying the figures in the Hourly Wage Rate column by those in the Burden Hours Per District Column.

⁵ The figures in this column were calculated by multiplying the figures in the Burden Hours Per District column by 6,024, the total number of respondents.

⁶ The figures in this column were calculated by multiplying the figures in the Burden Hour Cost Per District column by 6,024, the total number of respondents.

Dated: April 14, 2017.
For the Commission.
Victoria A. Lipnic,
Acting Chair.

[FR Doc. 2017-07990 Filed 4-19-17; 8:45 am]

BILLING CODE 6570-01-P